DEPARTMENT OF LABOR

Employment and Training Administration

Notice of Determinations Regarding Eligibility To Apply for Worker Adjustment Assistance and Alternative Trade Adjustment Assistance

In accordance with Section 223 of the Trade Act of 1974, as amended (19 U.S.C. 2273) the Department of Labor herein presents summaries of determinations regarding eligibility to apply for trade adjustment assistance for workers (TA-W) number and alternative trade adjustment assistance (ATAA) by (TA-W) number issued during the period of January 8 through January 12, 2007.

In order for an affirmative determination to be made for workers of a primary firm and a certification issued regarding eligibility to apply for worker adjustment assistance, each of the group eligibility requirements of Section 222(a) of the Act must be met.

I. Section (a)(2)(A), all of the following must be satisfied:

A. A significant number or proportion of the workers in such workers' firm, or an appropriate subdivision of the firm, have become totally or partially separated, or are threatened to become totally or partially separated;

B. The sales or production, or both, of such firm or subdivision have decreased absolutely; and

C. Increased imports of articles like or directly competitive with articles produced by such firm or subdivision have contributed importantly to such workers' separation or threat of separation and to the decline in sales or production of such firm or subdivision; or

II. Section (a)(2)(B), both of the following must be satisfied:

A. A significant number or proportion of the workers in such workers' firm, or an appropriate subdivision of the firm, have become totally or partially separated, or are threatened to become totally or partially separated;

B. There has been a shift in production by such workers' firm or subdivision to a foreign country of articles like or directly competitive with articles which are produced by such firm or subdivision; and

C. One of the following must be satisfied:

1. The country to which the workers' firm has shifted production of the articles is a party to a free trade agreement with the United States;

2. The country to which the workers' firm has shifted production of the articles to a beneficiary country under the Andean Trade Preference Act, African Growth and Opportunity Act, or the Caribbean Basin Economic Recovery Act; or

3. There has been or is likely to be an increase in imports of articles that are like or directly competitive with articles which are or were produced by such firm or subdivision.

Also, in order for an affirmative determination to be made for secondarily affected workers of a firm and a certification issued regarding eligibility to apply for worker adjustment assistance, each of the group eligibility requirements of Section 222(b) of the Act must be met.

(1) Significant number or proportion of the workers in the workers' firm or an appropriate subdivision of the firm have become totally or partially separated, or are threatened to become totally or partially separated;

(2) The workers' firm (or subdivision) is a supplier or downstream producer to a firm (or subdivision) that employed a group of workers who received a certification of eligibility to apply for trade adjustment assistance benefits, and such supply or production is related to the article that was the basis for such certification; and

(3) Either—

(A) The workers' firm is a supplier and the component parts it supplied for the firm (or subdivision) described in paragraph (2) accounted for at least 20 percent of the production or sales of the workers' firm; or

(B) A loss of business by the workers' firm with the firm (or subdivision) described in paragraph (2) contributed importantly to the workers' separation or threat of separation.

In order for the Division of Trade Adjustment Assistance to issue a certification of eligibility to apply for Alternative Trade Adjustment Assistance (ATAA) for older workers, the group eligibility requirements of Section 246(a)(3)(A)(ii) of the Trade Act must be met.

1. Whether a significant number of workers in the workers' firm are 50 years of age or older.

2. Whether the workers in the workers' firm possess skills that are not easily transferable.

3. The competitive conditions within the workers' industry (i.e., conditions within the industry are adverse).

Affirmative Determinations for Worker Adjustment Assistance

The following certifications have been issued. The date following the company name and location of each determination references the impact date for all workers of such determination.

The following certifications have been issued. The requirements of Section 222(a)(2)(A) (increased imports) of the Trade Act have been met.

None.

The following certifications have been issued. The requirements of Section 222(a)(2)(B) (shift in production) of the Trade Act have been met.

TA-W-60,620; Point Technologies, A Subsidiary of Angiotech Pharmaceuticals, Wheeling, IL: November 17, 2005.

The following certifications have been issued. The requirements of Section 222(b) (supplier to a firm whose workers are certified eligible to apply for TAA) of the Trade Act have been met.

None.

The following certifications have been issued. The requirements of Section 222(b) (downstream producer for a firm whose workers are certified eligible to apply for TAA based on increased imports from or a shift in production to Mexico or Canada) of the Trade Act have been met.

None.

Affirmative Determinations for Worker Adjustment Assistance and Alternative Trade Adjustment Assistance

The following certifications have been issued. The date following the company name and location of each determination references the impact date for all workers of such determination.

The following certifications have been issued. The requirements of Section 222(a)(2)(A) (increased imports) and Section 246(a)(3)(A)(ii) of the Trade Act have been met.

TA-W-60,535; Broyhill Furniture Industries, Inc., Lenoir Furniture Corporation, Lenoir, NC: September 11, 2006.

TA-W-60,545; Nice Systems, Inc., Public Safety Division, Shelton, CT: December 5, 2005.

TA-W-60,585; A.M. Todd Company, Botanical Therapeutics, Eugene, OR: December 11, 2005.

TA-W-60,588; Clayson Knitting Company, Inc., Star, NC: October 26, 2006.

TA-W-60,601; Weyerhaeuser Company, Mountain Pine, AR: December 12, 2005.

TA-W-60,605; Robetex, Inc., Lumberton, NC: October 2, 2005.

TA-W-60,645; Diamond Back, Inc., A Subsidiary of Cortland Line Co., Morrisville, VT: December 15, 2005.

TA-W-60,673; Manthei, Inc., Petoskey, MI: December 27, 2005.

TA-W-60,240; Georgia Pacific Corporation, Consumer Products Division, Camas, WA: October 10, 2005.

TA-W-60,482; Du-Co Ceramics Co., Saxonburg, PA: December 3, 2005.

TA-W-60,509; K-C Fish Company, Inc., Blaine, WA: November 29, 2005.

TA-W-60,521; P.H. Precision Products Corp., Pembroke, NH: November 28, 2005.

TA-W-60,532; Auburn Apparel, Inc., Auburn, PA: December 6, 2005.

TA-W-60,547; Enterprise Tool and Die, Grandville, MI: November 29, 2005.

TA-W-60,563; General Chemical Performance Products, Gibbstown, NJ: December 6, 2005.

TA-W-60,579; Dana Corporation, Including On-Site Leased Workers of Adecco, Danville, KY: November 22, 2005

TA-W-60,602; Photocircuits Corporation, Glen Cove, NY: December 2, 2005.

TA-W-60,348; Del Monte Fresh Produce (Hawaii) Inc., Kunia, HI: October 30, 2005.

The following certifications have been issued. The requirements of Section 222(a)(2)(B) (shift in production) and Section 246(a)(3)(A)(ii) of the Trade Act have been met.

TA-W-60,389; Starkey Laboratories, Inc., Glencoe Division, Glencoe, MN: January 5, 2007.

TA-W-60,463; Cott Beverages Wyomissing, Inc., Wyomissing, PA: November 20, 2005.

TA-W-60,543; Edscha Jackson, Inc., Leased Workers of Autotek, Bartech and Accountemps, Jackson, MI: December 5, 2005.

TA-W-60,553; Graftech International, A Division of UCAR Carbon Company, Clarksville, TN: December 7, 2005.

TA-W-60,587; Federal Mogul Corporation, Sealing Systems Division, Van Wert, OH: December 11, 2005.

TA-W-60,615; York Group Metal Casket Assembly (The), Matthews Casket Division, Marshfield, MO: December 12, 2005.

TA-W-60,632; Pfizer, Inc., Global Manufacturing Division, Holland, MI: December 15, 2005.

TA-W-60,643; Hutchings Automotive Products, Inc., Grand Blanc, MI: December 14, 2005.

TA-W-60,661; Lear Corporation, Seating Systems Division, Janesville Plant, Janesville, WI: December 21, 2005.

TA-W-60,708; Hooven Allison, LLC, Madison, GA: December 29, 2005.

TA-W-60,716; A.O. Smith Corporation, Electrical Products Division, Mebane, NC: January 4, 2006.

TA-W-60,559; ESCO Company Limited Partnership, Muskegon, MI: December 7, 2005.

TA-W-60,593; Paul Lavitt Mills, Inc., Lincolnton, NC: December 12, 2005.

TA-W-60,613; Stanley Furniture Company, Robbinsville Plant, Robbinsville, NC: December 13, 2005.

TA-W-60,666; Spaulding Composites, Inc., DeKalb, IL: December 21, 2005.

TA-W-60,692; Anaheim Manufacturing Co., A Subsidiary of Western Industries, Anaheim, CA: September 25, 2006.

The following certifications have been issued. The requirements of Section 222(b) (supplier to a firm whose workers are certified eligible to apply for TAA) and Section 246(a)(3)(A)(ii) of the Trade Act have been met.

TA-W-60,459; Sandusky Athol International, Sandusky Limited, Sandusky, OH: November 20, 2005.

The following certifications have been issued. The requirements of Section 222(b) (downstream producer for a firm whose workers are certified eligible to apply for TAA based on increased imports from or a shift in production to Mexico or Canada) and Section 246(a)(3)(A)(ii) of the Trade Act have been met.

TA-W-60,552; American Specialty Cars (ASC), Inc., Livonia 04, Livonia, MI: December 5, 2005.

Negative Determinations for Alternative Trade Adjustment Assistance

In the following cases, it has been determined that the requirements of 246(a)(3)(A)(ii) have not been met for the reasons specified.

The Department has determined that criterion (1) of Section 246 has not been met. Workers at the firm are 50 years of age or older.

None.

The Department has determined that criterion (2) of Section 246 has not been met. Workers at the firm possess skills that are easily transferable.

TA-W-60,620; Point Technologies, a Subsidiary of Angiotech Pharmaceuticals, Wheeling, IL.

The Department has determined that criterion (3) of Section 246 has not been met. Competition conditions within the workers' industry are not adverse.

None.

Negative Determinations for Worker Adjustment Assistance and Alternative Trade Adjustment Assistance

In the following cases, the investigation revealed that the eligibility criteria for worker adjustment assistance have not been met for the reasons specified.

Because the workers of the firm are not eligible to apply for TAA, the workers cannot be certified eligible for ATAA.

The investigation revealed that criteria (a)(2)(A)(I.A.) and (a)(2)(B)(II.A.) (employment decline) have not been met.

TA-W-60,485; Lockheed Martin, Operations Manufacturing Group, Orlando, FL.

TA-W-60,595; Berkline Benchcraft, LLC, Blue Mountain, MS.

The investigation revealed that criteria (a)(2)(A)(I.B.) (Sales or production, or both, did not decline) and (a)(2)(B)(II.B.) (shift in production to a foreign country) have not been met.

TA-W-60,549; Blue Holdings, Inc., Commerce, CA.

TA-W-60,693; Continental Connector Co., A Subsidiary ASC Group, Inc., Bloomfield, NJ.

The investigation revealed that criteria (a)(2)(A)(I.C.) (increased imports) and (a)(2)(B)(II.B.) (shift in production to a foreign country) have not been met.

TA-W-59,974; Delphi Corporation, Automotive Holdings Group, New Brunswick, NJ.

TA-W-60,229; City Machine Tool and Die Co., Inc., Muncie, IN.

TA-W-60,420; Mesick Precision Co., Inc., Mesick, MI.

TA-W-60,519; Sun Chemical Corporation, Flush Department, Muskegon, MI.

TA-W-60,524; Eaton Paperboard Convertors, Booneville, MS.

TA-W-60,614; Weyerhaeuser Bardcor, CBPR Division, West Memphis, AR.

The investigation revealed that the predominate cause of worker separations is unrelated to criteria (a)(2)(A)(I.C.) (increased imports) and (a)(2)(B)(II.C) (shift in production to a foreign country under a free trade agreement or a beneficiary country under a preferential trade agreement, or there has been or is likely to be an increase in imports).

None.

The workers' firm does not produce an article as required for certification under Section 222 of the Trade Act of 1974.

TA-W-60,477; American Uniform Company, Headquarters Cleveland, Cleveland, TN.

TA-W-60,551; Haggar Clothing Company, Technical Design Division, Dallas, TX.

TA-W-60,558; Supervalu, Inc., Pleasant Prairie Distribution Center, Pleasant Prairie, WI.

TA-W-60,574; Finegood Moldings, Inc., Carson, CA.

TA-W-60,581; Jeanne Skin Care Cosmetics, Ltd., New York, NY.

The investigation revealed that criteria of Section 222(b)(2) has not been met. The workers' firm (or subdivision) is not a supplier to or a downstream producer for a firm whose workers were certified eligible to apply for TAA.

None.

I hereby certify that the aforementioned determinations were issued during the period of January 8 through January 12, 2007. Copies of these determinations are available for inspection in Room C-5311, U.S. Department of Labor, 200 Constitution Avenue, NW., Washington, DC 20210 during normal business hours or will be mailed to persons who write to the above address.

Dated: January 18, 2007.
Ralph Dibattista,
Director, Division of Trade Adjustment Assistance.

[FR Doc. E7-1070 Filed 1-24-07; 8:45 am]

BILLING CODE 4510-30-P